DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 part 107, subpart B), notice is hereby given that the Office of Hazardous Materials Safety has received the applications described herein. Each mode of transportation for which a particular exemption is requested is indicated by a number in the “Nature of Application” portion of the table below as follows: 1—Motor Vehicle, 2—Rail freight, 3—Cargo vessel, 4—Cargo aircraft only, 5—Passenger-carrying aircraft.

DATES: Comments must be received on or before December 23, 2002.

Address Comments to: Records Center, Research and Special Programs, Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC or at http://dms.dot.gov.

This notice of receipt of applications for new exemptions is published in accordance with part 107 of the Federal hazardous materials transportation law (49 U.S.C. 5117(b); 49 CFR 1.53(b)).

Issued in Washington, DC, on November 18, 2002.
R. Ryan Posten,
Exemptions Program Officer, Office of Hazardous Materials, Exemptions and Approvals.

Application No. | Docket No. | Applicant | Regulation(s) affected | Nature of exemption thereof
New Exemptions
13161-N | RSPA-02-13798 | Honeywell International Inc., Morristown, NJ | 49 CFR 172.301(a)(1), 172.301(c), 172.400, 172.504, 173.202 | To authorize the transportation in a commerce of small quantity of Class 3 hazardous material in specially designed packaging to be transported as unregulated. (Modes 1, 4.)
13164-N | RSPA-02-13802 | United States Enrichment Corporation (USEC), Bethesda, MD | 49 CFR 173.420 | To authorize the one-time transportation in commerce of 480M type cylinders for use in transporting Class 7 hazardous materials. (Modes 1, 2.)
13165-N | RSPA-02-13803 | Harris Corporation, Melbourne, FL | 49 CFR 172.200 | To authorize the transportation in commerce of non-bulk hazardous materials within the same facility along public roads with alternative shipping papers. (Mode 1.)

[FR Doc. 02-29657 Filed 11-20-02; 8:45 am]

BILLING CODE 4910-60-M